DEPARTMENT OF HEALTH AND HUMAN SERVICES

National Institutes of Health

National Institute on Minority Health and Health Disparities; Amended Notice of Meeting

Notice is hereby given of a change in the meeting of the National Institute on Minority Health and Health Disparities Special Emphasis Panel, December 12, 2018 1:00 p.m. to December 12, 2018, 6:00 p.m., National Institutes of Health, Gateway Building, 7201 Wisconsin Ave., Suite 533, Bethesda, MD 20814, which was published in the Federal Register on October 31, 2018, 83 FR 54758.

The meeting of the Special Emphasis Panel; RCMI Research Coordinating Network (RRCN)(U54) has been cancelled, because the application to be reviewed, was withdrawn. The meeting is closed to the public.

Dated: December 4, 2018.
Ronald J. Livingston, Jr.,
Program Analyst, Office of Federal Advisory Committee Policy.

[FR Doc. 2018-26670 Filed 12-7-18; 8:45 am]

BILLING CODE 4140-01-P